ENVIRONMENTAL PROTECTION AGENCY

40 CFR Part 271

[EPA-R04-RCRA-2024-0116; FRL-11972-03-R4]

North Carolina: Final Authorization of State Hazardous Waste Management Program Revisions

AGENCY: Environmental Protection Agency.

ACTION: Withdrawal of direct final action.

SUMMARY: The Environmental Protection Agency is withdrawing the direct final action, North Carolina: Final Authorization of State Hazardous Waste Management Program Revisions, published on July 15, 2024, which authorized revisions to North Carolina's hazardous waste program under the Resource Conservation and Recovery Act (RCRA), as amended. Because the EPA received comments opposing the action, the EPA is withdrawing the direct final action. The EPA will address these comments and make a final authorization decision, in a subsequent final action, based on the proposed rule, also published on July 15, 2024.

DATES: As of September 11, 2024, the EPA withdraws the direct final action published on July 15, 2024, at 89 FR 57364.

FOR FURTHER INFORMATION CONTACT: Leah Davis; RCRA Programs and Cleanup Branch; Land, Chemicals and Redevelopment Division; U.S. Environmental Protection Agency; Atlanta Federal Center, 61 Forsyth Street SW, Atlanta, Georgia 30303-8960; telephone number: (404) 562-8562; fax number: (404) 562-9964; email address: davis.leah@epa.gov.

SUPPLEMENTARY INFORMATION: The EPA is withdrawing the direct final action, North Carolina: Final Authorization of State Hazardous Waste Management Program Revisions, published on July 15, 2024, at 89 FR 57364, which intended to grant authorization for revisions to North Carolina's hazardous waste program. The EPA stated in the direct final action that if the EPA received comments opposing the authorization during the comment period, the EPA would publish a timely notice of withdrawal in the Federal Register. Because the EPA did receive adverse comments, the EPA is withdrawing the direct final action. The EPA will address all comments and make a final authorization decision in a subsequent final action based on the proposed rule, also published on July 15, 2024, at 89 FR 57381. The EPA will not provide for additional public comment on the final action.

Dated: September 4, 2024.
Cesar Zapata,
Acting Deputy Regional Administrator, Region 4.

[FR Doc. 2024-20338 Filed 9-10-24; 8:45 am]

BILLING CODE 6560-50-P